AGENCY FOR INTERNATIONAL DEVELOPMENT

Privacy Act of 1974; System of Records

AGENCY: United States Agency for International Development

ACTION: New system of records notice.

SUMMARY: Pursuant to the Privacy Act, 5 U.S.C. 552a, the United States Agency for International Development (USAID) is issuing new public notice for a system of records entitled “USAID-32 Reasonable Accommodation Records”. This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before November 10, 2016. Unless comments are received that would require a revision, this altered system of records will become effective on November 10, 2016.

ADDRESSES: You may submit comments:

Electronic

• Federal eRulemaking Portal: http://www.regulations.gov. Follow the instructions on the Web site for submitting comments.

• Email: privacy@usaid.gov.

Paper

• Fax: (703) 666-5670.

Mail: Chief Privacy Officer, United States Agency for International Development, 1300 Pennsylvania Avenue NW., Washington, DC 20523.

FOR FURTHER INFORMATION CONTACT: The USAID Privacy Office at United States Agency for International Development, Bureau for Management, Office of the Chief Information Officer, Information Assurance Division, 1300 Pennsylvania Avenue NW., Washington, DC 20523; or via email at privacy@usaid.gov.

SUPPLEMENTARY INFORMATION: The Reasonable Accommodation Records system covers USAID reasonable accommodation activities related to current and former USAID employees and applicants. The Rehabilitation Act requires USAID to provide reasonable accommodation to qualified applicants and employees with disabilities if known or requested, unless the accommodation would impose undue hardship on USAID. Reasonable accommodations provide modifications or adjustments to: (1) The job application process that enables a qualified applicant with a disability to enjoy equal employment opportunities available to persons without disabilities; (2) the work environment; and/or (3) the manner in which a position is customarily performed. The Reasonable Accommodation Records system allows USAID to collect, use, maintain, and disseminate the records needed to process, manage, and resolve reasonable accommodation requests. Records include the requests, documentation related to the request, disposition of the requests, and reasonable accommodations provided by USAID.

Dated: July 28, 2016.
Jon Brause,
Chief Privacy Officer, United States Agency for International Development.

USAID-32

SYSTEM NAME:

Reasonable Accommodation Records.

SYSTEM LOCATION:

Office of Civil Rights and Diversity, United States Agency for International Development (USAID), 1300 Pennsylvania Avenue NW., Washington, DC 20523-2120.

CATEGORIES OF INDIVIDUALS IN THE SYSTEM:

Individuals who are current or former USAID employees and applicants, and who have requested reasonable accommodation under the Rehabilitation Act of 1973, as amended.

CATEGORIES OF RECORDS IN THE SYSTEM:

This system of records contains information or documents compiled during the reasonable accommodation request process. These records may contain names, employment status, addresses, email addresses, telephone numbers, occupational series, grade level, Agency office; the details of the reasonable accommodation request or emergency assistance request, type of accommodation requested, information concerning the nature of the disability and the need for accommodation, medical documentation, sources of technical assistance consulted to identify and procure reasonable accommodations, the details of the Agency determination; and any other information related to the request.

AUTHORITY FOR MAINTENANCE OF SYSTEM OF RECORDS:

This system is established and is maintained pursuant to 5 U.S.C. 301, Departmental Regulations; the Rehabilitation Act of 1973, 29 U.S.C. 791; E.O. 13164—Requiring Federal Agencies To Establish Procedures To Facilitate the Provision of Reasonable Accommodation; and E.O. 13548, Increasing Federal Employment of Individuals with Disabilities

PURPOSE(S):

The purpose of this system is to allow USAID to collect and maintain records on applicants and employees with disabilities who requested or received reasonable accommodation by the Agency as required by the Rehabilitation Act of 1973 and the Americans with Disabilities Act Amendments Act of 2008 (ADAAA). This system is maintained for the purpose of processing, deciding, and implementing requests for reasonable accommodation made by USAID employees and applicants. The purpose of this system is also to track and report the processing of requests for reasonable accommodation Agency-wide to comply with applicable law and regulations and to preserve and maintain the confidentiality of medical information.

ROUTINE USES OF RECORDS MAINTAINED IN THE SYTEM, INCLUDING CATEGORIES OF USERS AND PURPOSEs OF SUCH USE:

In addition to those disclosures generally permitted under 5 U.S.C. 552a(b), all or a portion of the records contained in this system of records may be disclosed outside USAID as a routine use pursuant to 5 U.S.C. 552a(b)(3) as follows:

(1) To the Department of Justice, (including United States Attorney Offices), or other appropriate Federal Government agency conducting litigation or in proceedings before any court, adjudicative or administrative body, when it is necessary to the litigation and one of the following is a party to the litigation or has an interest in such litigation (1) USAID or any component thereof; (2) any employee of USAID in his/her official capacity; (3) any employee of USAID in his/her individual capacity where DOJ or USAID has agreed to represent the employee; or (4) the United States or any agency thereof, is a party to the litigation or has an interest in such litigation, and USAID determines that the records are both relevant and necessary to the litigation and the use of such records is compatible with the purpose for which USAID collected the records.

(2) To a congressional office from the record of an individual in response to an inquiry from that congressional office made at the request of the individual to whom the record pertains.

(3) To the National Archives and Records Administration (NARA) or other federal government agencies pursuant to records management inspections being conducted under the authority of 44 U.S.C. 2904 and 2906.

(4) To an agency, organization, or individual for the purpose of performing audit or oversight operations as authorized by law, but only such information as is necessary and relevant to such audit or oversight function.

(5) To appropriate agencies, entities, and persons when (1) USAID suspects or has confirmed that the security or confidentiality of information in the system of records has been compromised; (2) the Agency has determined that as a result of the suspected or confirmed compromise there is a risk of harm to economic or property interests, identity theft or fraud, or harm to the security or integrity of this system or other systems or programs (whether maintained by USAID or another agency or entity) or harm to the individual that rely upon the compromised information; and (3) the disclosure made to such agencies, entities, and persons is reasonably necessary to assist in connection with USAID's efforts to respond to the suspected or confirmed compromise and prevent, minimize, or remedy such harm.

(6) To contractors and their agents, grantees, experts, consultants, and others performing or working on a contract, service, grant, cooperative agreement, or other assignment for USAID, when necessary to accomplish an agency function related to this system of records. Individuals provided information under this routine use is subject to the same Privacy Act requirements and limitations on disclosure as are applicable to USAID officers and employees.

(7) To an appropriate federal, state, or local law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

(8) To a court, magistrate, or administrative tribunal in the course of presenting evidence, including disclosures to opposing counsel or witnesses in the course of civil discovery, litigation, or settlement negotiations or in connection with criminal law proceedings or in response to a subpoena from a court of competent jurisdiction.

(9) To another federal agency or commission with responsibility for labor or employment relations or other issues, including equal employment opportunity and reasonable accommodation issues, when that agency or commission has jurisdiction over reasonable accommodation.

(10) To appropriate third parties contracted by USAID to facilitate mediation or other dispute resolution procedures or programs.

(11) To a Federal agency or entity that requires information relevant or related to a reasonable accommodation decision and/or its implementation.

(12) To medical personnel and first responders, to meet a bona fide emergency, including medical emergencies.

(13) To attorneys, union representatives, or other persons designated by USAID employees in writing to represent them in a grievance, complaint, appeal, or litigation case.

(14) To an authorized appeal grievance examiner, formal complaints examiner, administrative judge, equal employment opportunity investigator, arbitrator or other duly authorized official engaged in investigation or settlement of a grievance, complaint, or appeal filed by an employee.

(15) To labor organization officials when such information is relevant to personnel policies affecting employment conditions and necessary for exclusive representation by the labor organization.

POLICIES AND PRACTICES FOR STORING, RETRIEVING, ACCESSING, RETAINING, AND DISPOSING OF RECORDS IN THE SYSTEM: STORAGE:

Records in this system are stored on paper and/or electronic form; and are maintained in locked cabinets and/or user-authenticated, password-protected systems.

RETRIEVABILITY:

Records are retrieved by the names of the individuals about whom they are maintained and/or the number assigned to the accommodation request. In the case of electronic databases, information may be retrieved by other identifying search terms.

SAFEGUARDS:

Information in this system is safeguarded in accordance with applicable laws, rules and policies, including the Agency's automated directive system (ADS). In general, records are maintained in buildings with restricted access. The required use of password protection identification features and other system protection methods also restrict access. Access to records is restricted to those authorized USAID personnel and authorized contractors who have an official need in the performance of their official duties.

RETENTION AND DISPOSAL:

Records are retained and disposed of in accordance with the Equal Employment Opportunity Commission's Policy Guidance on Executive Order 13164: Establishing Procedures to Facilitate the Provision of Reasonable Accommodation, Directives Transmittal Number 915.003, October 20, 2000; and in accordance with the National Archives and Records Administration (NARA) General Records Schedule 1, Civilian Personnel Records, Item 24, Reasonable Accommodation Request Records.

SYSTEM MANAGER(S) AND ADDRESS:

Reasonable Accommodation Program Manager, Office of Civil Rights and Diversity, United States Agency for International Development, 1300 Pennsylvania Avenue NW., Washington, DC 20523-2120.

NOTIFICATION PROCEDURE:

Same as Record Access Procedures.

RECORDS ACCESS PROCEDURES:

Under the Privacy Act, individuals may request access to records about themselves. If an agency or a person, who is not the individual who is the subject of the records, requests access to records about an individual, the written consent of the individual who is the subject of the records is required.

Requesters may submit requests for records under the Privacy Act: (1) By mail to the USAID FOIA Office, Bureau for Management, Office of Management Services, Information and Records Division, 1300 Pennsylvania Avenue NW., Room 2.07C-RRB, Washington, DC 20523-2701; (2) via Facsimile to 202-216-3070; (3) via email to foia@usaid.gov; (4) on the USAID Web site at www.usaid.gov/foia-requests; or (5) in person during regular business hours at USAID, 1300 Pennsylvania Avenue NW., Washington, DC 20523-2701, or at USAID overseas missions.

Requesters using 1 through 4 may provide a written statement or may complete and submit USAID Form 507-1, Freedom of Information/Privacy Act Record Request Form, which can be obtained: (a) On the USAID Web site at www.usaid.gov/foia-requests; (b) by email request to foia@usaid.gov; or (c) by writing to the USAID FOIA Office, Bureau for Management, Office of Management Services, Information and Records Division, 1300 Pennsylvania Avenue NW., Room 2.07C-RRB, Washington, DC 20523-2701, and provide information that is necessary to identify the records, including the following: Requester's full name; present mailing address; home telephone; work telephone; name of subject, if other than requester; requester relationship to subject; description of type of information or specific records; and purpose of requesting information. Requesters should provide the system of record identification name and number, if known; and, to facilitate the retrieval of records contained in those systems of records which are retrieved by Social Security Numbers, the Social Security Number of the individual to whom the record pertains.

In addition, requesters using 1 through 4 must include proof of identity information by providing copies of two (2) source documents that must be notarized by a valid (un-expired) notary public. Acceptable proof-of-identity source documents include: An unexpired United States passport; Social Security Card (both sides); unexpired United States Government employee identity card; unexpired driver's license or identification card issued by a state or United States possession, provided that it contain a photograph; certificate of United States citizenship; certificate of naturalization; card showing permanent residence in the United States; United States alien registration receipt card with photograph; United States military card or draft record; or United States military dependent's identification card.

Requesters using 1 through 4 must also provide a signed and notarized statement that they are the person named in the request; that they understand that any falsification of their statement is punishable under the provision of 18 U.S.C. 1001 by a fine, or by imprisonment of not more than five years or, if the offense involves international or domestic terrorism (as defined in section 2331), imprisonment of not more than eight years, or both; and that requesting or obtaining records under false pretenses is punishable under the provisions of 5 U.S.C. 552a(i)(3) as a misdemeanor and by a fine of not more than $5,000.

Requesters using 5 must provide such personal identification as is reasonable under the circumstances to verify the requester's identity, including the following: An unexpired United States passport; Social Security Card; unexpired United States Government employee identity card; unexpired driver's license or identification card issued by a state or United States possession, provided that it contain a photograph; certificate of United States citizenship; certificate of naturalization; card showing permanent residence in the United States; United States alien registration receipt card with photograph; United States military card or draft record; or United States military dependent's identification card.

CONTESTING RECORDS PROCEDURES:

Individuals seeking to contest or amend records maintained on himself or herself must clearly and concisely state that information is being contested, and the proposed amendment to the information sought. Requests to amend a record must follow the Record Access Procedures above.

RECORDS SOURCE CATEGORIES:

Sources of records include individuals who have requested reasonable accommodation and supporting documentation from USAID officials, employees, and agents, and/or healthcare professionals involved in the reasonable accommodation request, response, and implementation process.

EXEMPTIONS CLAIMED FOR THE SYSTEM:

None.

[FR Doc. 2016-24509 Filed 10-7-16; 8:45 am]

BILLING CODE 6116-02-P